ENVIRONMENTAL PROTECTION AGENCY

[ER-FRL-8988-2]

Environmental Impact Statements; Notice of Availability

Responsible Agency: Office of Federal Activities, General Information (202) 564-1399 or http://www.epa.gov/compliance/nepa/.

Weekly Receipt of Environmental Impact Statements

Filed 02/01/2010 through 02/12/2010.

Pursuant to 40 CFR 1506.9.

Notice

In accordance with Section 309(a) of the Clean Air Act, EPA is required to make its comments on EISs issued by other Federal agencies public. Historically, EPA has met this mandate by publishing weekly notices of availability of EPA comments, which includes a brief summary of EPA's comment letters, in the Federal Register. Since February 2008, EPA has been including its comment letters on EISs on its Web site at: http://www.epa.gov/compliance/nepa/eisdata.html. Including the entire EIS comment letters on the Web site satisfies the Section 309(a) requirement to make EPA's comments on EISs available to the public. Accordingly, after March 31, 2010, EPA will discontinue the publication of this notice of availability of EPA comments in the Federal Register.

Federal Offices in Washington, DC, were closed because of inclement weather from February 8-11, 2010. Accordingly the Notice of Availability for the Weekly Receipt of Environmental Impact Statements filed 02/01/2010 through 02/05/2010 was not published in the Federal Register on February 12, 2010.

EIS No. 20100033, Draft EIS, BLM, CA Chevron Energy Solutions Lucerne Valley Solar Project, Proposing To Develop a 45-megawatt (MW) Solar Photovoltaic (PV) Plant and Associated Facilities on 516 Acres of Federal Land Managed, California Desert Conservation Area Plan Amendment, San Bernardino County, CA, Comment Period Ends: 05/19/2010, Contact: Greg Thomsen 951-697-5237.

EIS No. 20100034, Final EIS, USFWS, CA, Hatchery and Stocking Program. Operation of 14 Trout Hatcheries and the Mad River Hatchery for the Anadromous Steelhead, Federal Funding, California Department of Fish and Game, CA, Wait Period Ends: 03/22/2010, Contact: Bart Prose 916-978-6152.

EIS No. 20100035, Draft EIS, USACE, TX, Lake Columbia Regional Water Supply Reservoir Project, Proposes to Construct, Operate and Maintain a Dam and Reservoir, Mud Creek, Angelina River, Cherokee and Smith Counties, TX, Comment Period Ends: 04/05/2010, Contact: Brent Jasper 817-886-1733.

EIS No. 20100036, Final EIS, BR, CA, New Melones Lakes Area Resource Management Plan, Implementation, Tuolumne and Calaveras Counties, CA, Wait Period Ends: 03/22/2010, Contact: Melissa Vignau 916-989-7182.

EIS No. 20100037, Second Draft Supplement, USFS, 00, Sierra Nevada Forest Plan Amendment, Proposes to Provide an Objective Comparison of all of the Alternatives for 2004 Final EIS, Amending Land and Resource Management Plans, Modoc, Lasser, Plumas, Tahoe, Eldorado, Stanislaus, Sequoia, Sierra, Inyo and Humboldt-Toiyabe National Forests, and the Lake Tahoe Basin Management Unit, Several Counties, CA and NV, Comment Period Ends: 04/05/2010, Contact: Randy Moore 707-562-8737.

EIS No. 20100038, Draft Supplement, FSA, 00, PROGRAMMATIC—Conservation Reserve Program (CRP), Implement Certain Changes to the CRP as Enacted by Congress in the 2008 Farm Bill, in the United States, Comment Period Ends: 04/05/2010, Contact: Mathhew T. Ponish 202-720-6853.

EIS No. 20100039, Final EIS, WAPA, 00, ADOPTION—Southwest Intertie Project, Construction and Operation, 500kV Transmission Line from the existing Midpoint substation near Shoshone, ID to a new substation site in the Dry Lake Valley of Las Vegas, NV area to a point near Delta, UT, Permits Approval and C, Wait Period Ends: 03/22/2010, Contact: Mathew Blevins 720-962-7621. U.S. DOE/WAPA has adopted the BLM's FEIS #19930233, filed 07/09/1993. WAPA was not a Cooperating Agency for the above FEIS. Accordingly, recirculation of the document is necessary under Section 1506.3(b) of the CEQ Regulations.

EIS No. 20100040, Draft EIS, NRC, IA, GENERIC—License Renewal of Nuclear Plants (GEIS) Regarding Duane Arnold Energy Center, Supplement 42 to NUREG-1437, near the Town of Palo, Linn County, IA, Comment Period Ends: 04/19/2010, Contact: Charles H. Eccleston 301-415-8537.

EIS No. 20100041, Final EIS, FHWA, MI, US-31 Holland to Grand Haven Project, Transportation Improvement to Reduce Traffic Congestation and Delay, Ottawa County, MI, Wait Period Ends: 03/22/2010, Contact: David T. Williams 517-702-1820.

EIS No. 20100042, Final EIS, USACE, CA, Natomas Levee Improvement Program Phase 4a Landside Improvement Project, Issuing of 408 Permission and 404 Permits, California Department of Water Resources (DWR) and the California Central Valley Flood Protection Board, Sutter and Sacramento Counties, CA, Wait Period Ends: 03/22/2010, Contact: Elizabeth Holland 916-557-6763.

EIS No. 20100043, Final EIS, FHWA, IA, Southeast (SE) Connector in Des Moines, Iowa, To Provide a Safe and Efficient Link between the MLK Jr. Parkway at SE 14th Street to the U.S. 65 Bypass, Funding, U.S. Army COE Section 404 and NPDES Permits, Polk County, IA, Wait Period Ends: 03/22/2010, Contact: Lubin Quinones 515-233-7300.

EIS No. 20100044, Final EIS, USFS, CA, Lower Trinity and Mad River Motorized Travel Management, Proposed to Prohibit Cross-Country Motor Vehicle Travel Off Designated National Forest Transportation System (NFTS) Roads and Motorized Trails, Six River National Forest, CA, Wait Period Ends: 03/22/2010, Contact: Linda West 707-441-3561.

Amended Notices

EIS No. 20090442, Draft EIS, USACE, 00, Sabine-Neches Waterway Channel Improvement Project, Proposed Ocean Dredged Material Disposal Site Designation, Southeast Texas and Southwest Louisiana, Comment Period Ends: 03/12/2010, Contact: Janelle Stokes 409-766-3039.

Revision to FR Notice Published 12/24/2009: Extending Comment Period from 02/10/2010 to 03/12/2010.

Dated: February 16, 2010.
Robert W. Hargrove,
Director, NEPA Compliance Division, Office of Federal Activities.

[FR Doc. 2010-3241 Filed 2-18-10; 8:45 am]

BILLING CODE 6560-50-P